NATIONAL AERONAUTICS AND SPACE ADMINISTRATION

[Notice 13-038]

NASA Advisory Council; Human Exploration and Operations Committee; Meeting

AGENCY: National Aeronautics and Space Administration.

ACTION: Notice of meeting.

SUMMARY: In accordance with the Federal Advisory Committee Act, Public Law 92-462, as amended, the National Aeronautics and Space Administration (NASA) announces a meeting of the Human Exploration and Operations Committee of the NASA Advisory Council (NAC). This Committee reports to the NAC. The meeting will be held for the purpose of soliciting, from the scientific community and other persons, scientific and technical information relevant to program planning.

DATES: Thursday, April 18, 2013, 9:30 a.m. -12:00 p.m., and 1:15 p.m.—6:00 p.m., Local Time.

ADDRESSES: National Aeronautics and Space Administration, Headquarters, 300 E Street SW., Room 9H40, Program Review Center (PRC), Washington, DC 20546-0001.

FOR FURTHER INFORMATION CONTACT: Dr. Bette Siegel, Human Exploration and Operations Mission Directorate, NASA Headquarters, Washington, DC 20546, (202) 358-2245, fax (202) 358-4297, or bette.siegel@nasa.gov.

SUPPLEMENTARY INFORMATION: The meeting will be open to the public up to the capacity of the room. This meeting is also available telephonically and by WebEx. Any interested person may call the USA toll free conference call number (877) 923-0445 or toll number (210) 453-5454, pass code 1310790, to participate in this meeting by telephone. The WebEx link is https://nasa.webex.com/, the meeting number is 991 759 074, and the password is @pril18athq.

The agenda for the meeting includes the following topics:

—Joint Session with the NAC Science Committee on the Status of the Human Exploration and Operations Mission Directorate

—Center for the Advancement of Science in Space/Status of Research Subcommittee

—Status of Exploration Systems Development

—Status of the International Space Station

—Status of Commercial Spaceflight Development

It is imperative that the meeting be held on this date to accommodate the scheduling priorities of the key participants. Attendees will be requested to sign a register and to comply with NASA security requirements, including the presentation of a valid picture ID to Security before access to NASA Headquarters. Foreign nationals attending this meeting will be required to provide a copy of their passport and visa in addition to providing the following information no less than 10 working days prior to the meeting: full name; gender; date/place of birth; citizenship; visa information (number, type, expiration date); passport information (number, country, expiration date); employer/affiliation information (name of institution, address, country, telephone); title/position of attendee; and home address to Dr. Bette Siegel via email at bette.siegel@nasa.gov or by fax at (202) 358-4297. U.S. citizens and Permanent Residents (green card holders) are requested to submit their name and affiliation 3 working days prior to the meeting to Dr. Bette Siegel.

Patricia D. Rausch,
Advisory Committee Management Officer, National Aeronautics and Space Administration.

[FR Doc. 2013-07779 Filed 4-3-13; 8:45 am]

BILLING CODE 7510-13-P